DEPARTMENT OF ENERGY

Federal Energy Regulatory Commission

[Docket No. ER04-220-000, et al.]

NEO California Power LLC, et al.; Electric Rate and Corporate Filings

December 5, 2003.

The following filings have been made with the Commission. The filings are listed in ascending order within each docket classification.

1. NEO California Power LLC

[Docket No. ER04-220-000]

Take notice that on November 21, 2003, NEO California Power LLC (NEO California) tendered for filing Schedule A (Contract Service Limits for the 2004 Contract Year), associated with a Must-Run Service Agreement (RMR Agreement) between NEO California and the California Independent System Operator Corporation.

Comment Date: December 12, 2003.

2. CPV Milford, LLC

[Docket No. ER04-222-001]

Take notice that on December 3, 2003, CPV Milford, LLC tendered for filing an amendment to its application for authorization to sell energy, capacity, and ancillary services and to provide asset management services at market-based rates pursuant to Section 205 of the Federal Power Act.

Comment Date: December 15, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00551 Filed 12-12-03; 8:45 am]

BILLING CODE 6717-01-P